DEPARTMENT OF HEALTH AND HUMAN SERVICES

National Institutes of Health

National Institute of Dental and Craniofacial Research; Notice of Closed Meetings

Pursuant to section 10(d) of the Federal Advisory Committee Act, as amended (U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel, 06-55, Review K08, R03.

Date: February 21, 2006.

Time: 3:30 p.m. to 5 p.m.

Agenda: To review and evaluate grant applications.

Place: National Institutes of Health, Natcher Building, 45 Center Drive, Bethesda, MD 20892, (Telephone Conference Call).

Contact Person: Soheyla Saadi, PhD., Scientific Review Administrator, Scientific Review Branch, 45 Center Dr., Rm. 4AN32A, National Institute of Dental and Craniofacial Research, National Institutes of Health, Bethesda, MD 20892, (301) 594-4805, saadisoh@nidcr.nih.gov.

Name of Committee: National Institute of Dental and Craniofacial Research Special Emphasis Panel, 06-61, Review R21.

Date: February 27, 2006.

Time: 10 a.m. to 11:30 a.m.

Agenda: To review and evaluate grant applications.

Place: National Institutes of Health, Natcher Building, 45 Center Drive, Bethesda, MD 20892, (Telephone Conference Call).

Contact Person: H. George Hausch, PhD., Acting Director, 45 Center Drive, Natcher Building, Rm. 4AN44F, National Inst. of Dental and Craniofacial Research, National Institutes of Health, Bethesda, MD 20892, (301) 594-2904, george_hausch@nih.gov.

Name of Committee: National Institute of Dental and Craniofacial Research Special Emphasis Panel, 06-43, Review R21s.

Date: March 1, 2006.

Time: 2 p.m. to 4 p.m.

Agenda: To review and evaluate grant applications.

Place: National Institutes of Health, Natcher Building, 45 Center Drive, Bethesda, MD 20892, (Telephone Conference Call).

Contact Person: H. George Hausch, PhD., Acting Director, 45 Center Drive, Natcher Building, Rm. 4AN44F, National Inst. of Dental and Craniofacial Research, National Institutes of Health, Bethesda, MD 20892, (301) 594-2904, george_hausch@nih.gov.

Name of Committee: National Institute of Dental and Craniofacial Research Special Emphasis Panel, 06-54, Review R21.

Date: March 2, 2006.

Time: 1 p.m. to 2 p.m.

Agenda: To review and evaluate grant applications.

Place: National Institutes of Health, Natcher Building, 45 Center Drive, Bethesda, MD 20892, (Telephone Conference Call).

Contact Person: H. George Hausch, PhD., Acting Director, 45 Center Drive, Natcher Building, Rm. 4AN44F, National Inst. of Dental and Craniofacial Research, National Institutes of Health, Bethesda, MD 20892, (301) 594-2904, george_hausch@nih.gov.

Name of Committee: National Institute of Dental and Craniofacial Research Special Emphasis Panel, 06-41, Review R21s.

Date: March 3, 2006.

Time: 10:30 a.m. to 12:30 p.m.

Agenda: To review and evaluate grant applications.

Place: National Institutes of Health, Natcher Building, 45 Center Drive, Bethesda, MD 20892, (Telephone Conference Call).

Contact Person: Raj K Krishnaraju, PhD., MS, Scientific Review Administrator, Scientific Review Branch, National Inst of Dental and Craniofacial Research, National Institutes of Health, 45 Center Dr., Rm 4AN32J, Bethesda, MD 20892, (301) 594-4864, kkrishna@nidcr.nih.gov.

Name of Committee: National Institute of Dental and Craniofacial Research Special Emphasis Panel, 06-63, Review R13.

Date: April 4, 2006.

Time: 11 a.m. to 12 p.m.

Agenda: To review and evaluate grant applications.

Place: National Institutes of Health, Natcher Building, 45 Center Drive, Bethesda, MD 20892, (Telephone Conference Call).

Contact Person: Mary Kelly, Scientific Review Specialist, National Institute of Dental and Craniofacial Res., 45 Center Drive, Natcher Bldg., RM 4AN38J, Bethesda, MD 20892-6402, (301) 594-4809, mary_kelly@nih.gov.

Name of Committee: National Institute of Dental and Craniofacial Research Special Emphasis Panel, 06-48, Review R21s.

Date: April 4, 2006.

Time: 1 p.m. to 6 p.m.

Agenda: To review and evaluate grant applications.

Place: National Institutes of Health, Natcher Building, 45 Center Drive, Bethesda, MD 20892, (Telephone Conference Call).

Contact Person: Peter Zelazowski, PhD., Scientific Review Administrator, Scientific Review Branch, Division of Extramural Activities, National Inst of Dental and Craniofacial Research, National Institutes of Health, Bethesda, MD 20892-6402, (301) 593-4861, peter.zelazowski@nih.gov.

Name of Committee: National Institute of Dental and Craniofacial Research Special Emphasis Panel, 06-40, Review R21s.

Date: April 6, 2006.

Time: 1 p.m. to 4 p.m.

Agenda: To review and evaluate grant applications.

Place: National Institutes of Health, Natcher Building, 45 Center Drive, Bethesda, MD 20892, (Telephone Conference Call).

Contact Person: Peter Zelazowski, PhD., Scientific Review Administrator, Scientific Review Branch, Division of Extramural Activities, National Inst of Dental and Craniofacial Research, National Institutes of Health, Bethesda, MD 20892-6402, (301) 593-4861, peter.zelazowski@nih.gov.

(Catalogue of Federal Domestic Assistance Program Nos. 93.121, Oral Diseases and Disorders Research, National Institutes of Health, HHS)

Dated: January 30, 2006.
Anna Snouffer,
Acting Director, Office of Federal Advisory Committee Policy.

[FR Doc. 06-1024 Filed 2-2-06; 8:45 am]

BILLING CODE 4140-01-M